DEPARTMENT OF COMMERCE

International Trade Administration

[A-489-501]

Certain Welded Carbon Steel Pipe and Tube From Turkey: Extension of the Time Limit for the Preliminary Results of Antidumping Duty New Shipper Review

AGENCY: Import Administration, International Trade Administration, Department of Commerce.

EFFECTIVE DATE: December 5, 2005.

FOR FURTHER INFORMATION CONTACT: Victoria Cho at (202) 482-5075 or George McMahon at (202) 482-1167, AD/CVD Operations, Office 3, Import Administration, International Trade Administration, U.S. Department of Commerce, 14th Street and Constitution Avenue, NW., Washington, DC 20230.

SUPPLEMENTARY INFORMATION:

Background

On June 30, 2005, the Department of Commerce (the Department) published a notice of initiation of antidumping duty new shipper review on certain carbon steel welded pipe and tube from Turkey covering the period of review (POR) from May 1, 2004, through, April 30, 2005. See Certain Welded Carbon Steel Pipe and Tube from Turkey: Notice of Initiation of Antidumping Duty New Shipper Review for the Period May 1, 2004, through April 30, 2005, 70 FR 39487 (June 30, 2005). The preliminary results are currently due no later than December 27, 2005.

Extension of Time Limit of Preliminary Results

Section 751(a)(2)(B)(iv) of the Act, requires the Department to issue the preliminary results of a new shipper review within 180 days of the date it was initiated. However, if the Department concludes that the case is extraordinarily complicated, it may extend the 180-day period to 300 days. Based on an allegation filed by the petitioner, we initiated a sales-below- cost investigation on September 28, 2005, and received the response to section D of the questionnaire on November 9, 2005. In order to allow sufficient time to analyze the sales and cost data and to issue supplemental questionnaires, we must extend the time limit to complete the preliminary results of this review. Given the complexity of this case, and in accordance with section 751(a)(2)(B)(iv) of the Act, we are extending the time limit for issuing the preliminary results of review until April 26, 2006, which is 300 days after the date of initiation. The deadline for the final results of this review will continue to be 90 days after publication of the preliminary results.

This extension is issued and published in accordance with section 751(a)(2)(B)(iv) and 777 (i)(1) of the Act and 19 CFR 351.214(I)(2).

Dated: November 28, 2005.
Stephen J. Claeys,
Deputy Assistant Secretary for Import Administration.

[FR Doc. 05-23626 Filed 12-2-05; 8:45 am]

BILLING CODE 3510-DS-S